DEPARTMENT OF ENERGY

Federal Energy Regulatory Commission

Notice of FERC Staff Attendance at Florida Public Service Commission Workshop Concerning Proposed Grid Florida RTO

May 20, 2005.

The Federal Energy Regulatory Commission hereby gives notice that members of its staff may attend a Florida Public Service Commission workshop, to be held on May 23, 2005 at 9:30 a.m. (EST) in Hearing Room 148 of the offices of the Florida Public Service Commission, 2540 Shumard Oak Blvd., Tallahassee, FL 32399-0850. The Florida Public Service Commission workshop, in its Docket No. 020233-EI, will include an ICF Consulting Resources, LLC presentation and discussion of the results of its cost benefit study of the proposed GridFlorida Regional Transmission Organization.

The discussion may address matters at issue in Docket No. RT01-67, GridFlorida, LLC.

The meeting is open to the public.

For more information, contact Robert T. Machuga, Office of Markets, Tariffs and Rates, Federal Energy Regulatory Commission at (202) 502-6004 or robert.machuga@ferc.gov.

Linda Mitry,
Deputy Secretary.

[FR Doc. E5-2663 Filed 5-25-05; 8:45 am]

BILLING CODE 6717-01-P